DEPARTMENT OF TRANSPORTATION

Federal Aviation Administration

Environmental Impact Statement; Cincinnati/Northern Kentucky International Airport, Hebron, Kentucky

AGENCY: Federal Aviation Administration, DOT.

ACTION: Notice of availability.

SUMMARY: The Federal Aviation Administration (FAA) is making available the Final Environmental Impact Statement (FEIS) for proposed development at Cincinnati/Northern Kentucky International Airport, Hebron, Kentucky.

POINT OF CONTACT: Peggy S. Kelley, Federal Aviation Administration, Memphis Airports District Office, 3385 Airways Boulevard, Suite 302, Memphis, Tennessee 38116-3841, Telephone: (901) 544-3495 ext. 19.

SUPPLEMENTARY INFORMATION: The Federal Aviation Administration (FAA) is making available the Final Environmental Impact Statement (FEIS) for the following proposed development: A new 8,000-foot Runway 17/35 (future 18R/36L) and all support facilities (i.e., additional taxiways or taxiway extensions, and associated lighting and NAVAIDS), and the development of a 2,000-foot westerly extension to existing Runway 9/27 and all support facilities. This FEIS also assesses the Federal action regarding installation of navigational aides, airspace use, approach and departure procedures and associated terminal and landside projects. One historic structure, the William A. Rouse house, would be affected. This document also assesses the impact of implementing the approved noise abatement air traffic actions recommended in the Kenton County Airport Board's 1999 FAR Part 150 Noise Compatibility Plan Update. The FAA Record of Approval for the Part 150 Noise Compatibility Program was signed December 5, 2000.

The EIS will be available during normal business hours at the following locations:

• Anderson Township City Building, 7954 Beechmont Avenue, Anderson Township, OH 45255.

• Boone County Board of Education, 8330 Highway 42, Florence, KY 41042.

• City of Villa Hills, 719 Rogers Road, Villa Hills, KY 41017.

• Cincinnati & Hamilton County Public Library, 800 Vine Street, Cincinnati, OH 45202.

• Boone County Planning Commission, 2995 Washington Street, Burlington, KY 41005.

• Boone County Public Library, Lents Branch, 3215 Cougar Path, P.O. Box 287, Hebron, KY 41048.

• Boone County Public Library, Florence Branch, 7425 Highway 42, Florence, KY 41042.

• Boone County Library, Scheben Branch, 8899 U.S. 42, Union, KY 41091.

• City of Crescent Springs, 739 Buttermilk Pike, Crescent Springs, KY 41017.

• City of Crestview Hills, Attn: Kevin Celarek, 50 Crestview Hills Mall Road, Crestview Hills, KY 41017.

• City of Erlanger, 505 Commonwealth Avenue, City Hall, Erlanger, KY 41017.

• City of Florence, 8100 Ewing Boulevard, Florence, KY 41042.

• City of Fort Mitchell, Mayor Thomas E. Holocher, 2355 Dixie Highway, P.O. Box 17157, Ft. Mitchell, KY 41017.

• City of Lakeside Park, 9 Buttermilk Pike, Lakeside Park, KY 41017.

• Delhi Township Administration Building, 934 Neeb Road, Delhi Township, OH 45233.

• Green Township Building, 6303 Harrison Avenue, Cincinnati, OH 45247.

• Kenton County Public Library, 502 Scott Street, Covington, KY 41011.

• Kenton County Public Library, 3130 Dixie Highway, Erlanger, KY 41018.

• Lawrenceburg Public Library, 123 W. High Street, Lawrenceburg, IN 47025.

• John Dowlin, Hamilton County Commissioner, County Administrative Building, Room 603, 138 E. Court Street, Cincinnati, OH 45202.

• Miami Township Administrative Offices, 112 S. Miami Avenue, Cleves, OH 45002.

• Sayler Park Community Center, 6720 Home City Avenue, Cincinnati, OH 45233.

• Village of Addyston, 235 Main Street, Addyston, OH 45001.

• Whitewater Township, 6125 Dry Fork Road, P.O. Box 554, Miami Town, OH 45041.

Issued in Memphis, Tennessee, October 3, 2001.
LaVerne F. Reid,
Manager, Memphis Airports District Office.

[FR Doc. 01-25593 Filed 10-10-01; 8:45 am]

BILLING CODE 4910-13-M